DEPARTMENT OF COMMERCE

National Oceanic and Atmospheric Administration

RIN 0648-XC008

Endangered and Threatened Species; Recovery Plans

AGENCY: National Marine Fisheries Service (NMFS), National Oceanic and Atmospheric Administration (NOAA), Commerce.

ACTION: Notice of Availability; request for comments.

SUMMARY: We, NMFS, announce that the Proposed Endangered Species Act (ESA) Recovery Plan for Lower Columbia River Chinook Salmon, Lower Columbia River Coho Salmon, Columbia River Chum Salmon, and Lower Columbia River Steelhead (Proposed Plan) is available for public review and comment. The Proposed Plan addresses the Lower Columbia River Chinook salmon (Oncoryhnchus tschawytscha), Lower Columbia coho salmon (O. kisutch), and Columbia River chum salmon (O. keta) evolutionarily significant units (ESUs) and the Lower Columbia River steelhead (O. mykiss) distinct population segment (DPS), all of which are listed as threatened under the ESA. The geographic area covered by the Proposed Plan is the Lower Columbia River mainstem and tributaries downstream of (and including) the White Salmon River in Washington and the Hood River in Oregon. As required by the ESA, the Proposed Plan contains objective, measurable delisting criteria, site-specific management actions necessary to achieve the Proposed Plan's goals, and estimates of the time and costs required to implement recovery actions. We are soliciting review and comment from the public and all interested parties on the Proposed Plan.

DATES: We will consider and address, as appropriate, all substantive comments received during the comment period. Comments must be received no later than 5 p.m. Pacific daylight time on July 16, 2012.

ADDRESSES: Please send written comments and materials to Patty Dornbusch, National Marine Fisheries Service, 1201 NE. Lloyd Boulevard, Suite 1100, Portland, OR 97232. Comments may also be submitted by email to: nmfs.nwr.lowercolumbiaplan@noaa.gov. Please include “Comments on Lower Columbia Recovery Plan” in the subject line of the email. Comments may be submitted via facsimile (fax) to (503) 230-5441. Electronic copies of the Proposed Plan are available on the NMFS Web site at http://www.nwr.noaa.gov/Salmon-Recovery-Planning/Recovery-Domains/Willamette-Lower-Columbia/LC/Plan.cfm. Persons wishing to obtain an electronic copy on CD ROM of the Proposed Plan may do so by calling Kelly Gallivan at (503) 736-4721 or by emailing a request to kelly.gallivan@noaa.gov with the subject line “CD ROM Request for Lower Columbia Recovery Plan.”

FOR FURTHER INFORMATION CONTACT: Patty Dornbusch, NMFS Lower Columbia Recovery Coordinator, at (503) 230-5430, or patty.dornbusch@noaa.gov.

SUPPLEMENTARY INFORMATION:

Background

We are responsible for developing and implementing recovery plans for Pacific salmon and steelhead listed under the ESA of 1973, as amended (16 U.S.C. 1531 et seq.). Recovery means that the listed species and their ecosystems are sufficiently restored, and their future secured, to a point that the protections of the ESA are no longer necessary. Section 4(f)(1) of the ESA requires that recovery plans include, to the extent practicable: (1) Objective, measurable criteria which, when met, would result in a determination that the species is no longer threatened or endangered; (2) site-specific management actions necessary to achieve the plan's goals; and (3) estimates of the time required and costs to implement recovery actions.

We believe it is essential to have local support of recovery plans by those whose activities directly affect the listed species and whose continued commitment and leadership will be needed to implement the necessary recovery actions. We therefore support and participate in locally led, collaborative efforts to develop salmon and steelhead recovery plans that involve state, tribal, and Federal entities, local communities, and other stakeholders. We review locally developed recovery plans to ensure that they satisfy the ESA requirements. We make the recovery plans, along with any additional plan elements needed to satisfy the ESA requirements, available for public review and comment before finalizing and formally adopting them as ESA recovery plans.

In the Lower Columbia River, four salmon and steelhead species are listed as threatened: Lower Columbia River Chinook salmon, Lower Columbia River coho salmon, Columbia River chum salmon, and Lower Columbia River steelhead.

Three geographically based, locally developed plans each address a different portion of these species' range. NMFS' science center and regional office staff were closely involved in the development of these local plans. We have reviewed the final versions of these local plans and have developed an ESU/DPS-level plan that synthesizes the local plans, incorporates them as appendices, and provides all additional material needed to meet the ESA requirements. We have determined that this Proposed ESA Recovery Plan for Lower Columbia River Chinook Salmon, Lower Columbia River Coho Salmon, Columbia River Chum Salmon, and Lower Columbia River Steelhead meets the statutory requirements for a recovery plan and are proposing to adopt it as the ESA recovery plan for these four threatened species. Section 4(f) of the ESA, as amended in 1988, requires that public notice and an opportunity for public review and comment be provided prior to final approval of a recovery plan. This notice solicits comments on this Proposed Plan.

Development of the Proposed Plan

The initial technical foundation for this Proposed Plan was developed by the Willamette-Lower Columbia Technical Recovery Team. NMFS appointed Technical Recovery Teams to provide a solid scientific foundation for recovery plans. Scientists on these teams were nominated because of their geographic and species expertise. The Willamette-Lower Columbia Technical Recovery Team included biologists from NMFS, other federal agencies, states, tribes, academic institutions, and the private sector.

A primary task for all the Technical Recovery Teams was to recommend criteria for determining when each component population with an ESU or DPS should be considered viable (i.e., when they have a low risk of extinction over a 100-year period) and when ESUs and DPSs have a risk of extinction consistent with no longer needing the protections of the ESA. All Technical Recovery Teams used the same biological principles for developing these recommendations; these principles are described in the NOAA technical memorandum Viable Salmonid Populations and the Recovery of Evolutionarily Significant Units (McElhany et al., 2000).

We also worked with state, tribal, local, and other federal entities to develop planning forums that built on ongoing locally led recovery efforts. We defined “management units” for these local efforts, based on jurisdictional boundaries as well as areas where discrete local planning efforts were under way. A recovery plan was developed for each management unit, either led by local groups with strong NMFS participation, or led by NMFS with extensive local participation. Management unit recovery planners adopted and built upon the work of the Technical Recovery Teams. The management unit plans for the Lower Columbia River Basin, which are incorporated as Appendices A through C of this Proposed Plan, are as follows:

(1) Oregon Management Unit: The recovery plan for the Oregon management unit covers the portions of the Lower Columbia salmon ESUs and steelhead DPS that occur within Oregon. The Oregon Department of Fish and Wildlife (ODFW) led development of this plan in collaboration with NMFS and numerous stakeholders. The Lower Columbia River Conservation and Recovery Plan for Oregon Populations of Salmon and Steelhead (ODFW 2010) is incorporated into this Proposed Plan as Appendix A.

(2) Washington Management Unit: The recovery plan for the Washington management unit covers the portions of the Lower Columbia salmon ESUs and steelhead DPS that occur in Washington within the planning area of the Lower Columbia Fish Recovery Board (LCFRB). The LCFRB was established by Washington State statute in 1998 to oversee and coordinate salmon and steelhead recovery efforts in the Lower Columbia region of Washington. The LCFRB led a collaborative process to develop the Washington Lower Columbia Salmon Recovery and Fish & Wildlife Subbasin Plan (LCFRB 2010). In February 2006 we approved the December 2004 version of the LCFRB plan as an interim regional recovery plan for the Washington management unit of the listed Lower Columbia River salmon ESUs and steelhead DPS. In May 2010, the LCFRB completed a revision of its earlier plan. That revised version is incorporated into this Proposed Plan as Appendix B.

(3) White Salmon Management Unit: In the absence of an existing local planning forum for salmon recovery, we led the development of the White Salmon management unit plan in cooperation with local stakeholders. The plan covers the portions of the Lower Columbia Chinook, coho, and chum salmon ESUs that occur in the White Salmon River subbasin (Washington). The Lower Columbia steelhead DPS does not occur in the White Salmon River subbasin. (However, the White Salmon management unit plan does cover a steelhead population that is part of the Middle Columbia River Steelhead DPS, which is addressed in NMFS' Middle Columbia River Steelhead Distinct Population Segment ESA Recovery Plan [2009]). The ESA Salmon Recovery Plan for the White Salmon River Subbasin (NMFS 2011a) is incorporated into this Proposed Plan as Appendix C.

After the management unit plans were completed, we developed an ESU/DPS-level document that synthesizes material from the management unit plans to demonstrate that recovery needs are being addressed at the ESU and DPS levels. We also incorporated delisting criteria into the Proposed Plan. In addition, to address recovery needs in the Lower Columbia River mainstem and estuary, we developed and incorporated the Columbia River Estuary ESA Recovery Plan Module for Salmon and Steelhead (NMFS 2011b) as Appendix D of this Proposed Plan. To address recovery needs related to the Columbia River Hydropower System, we incorporated the Recovery Plan Module: Mainstem Columbia River Hydropower Projects (NMFS 2008) as Appendix E of this Proposed Plan.

The Proposed Plan, including the component management unit plans and recovery plan modules, is now available for public review and comment.

Contents of Proposed Plan

The ESU/DPS-level portion of the Proposed Plan contains background and contextual information that includes descriptions of the ESUs and DPS addressed, the planning area, and the context of the plan's development. It presents relevant information on ESU and DPS structure, guidelines for assessing salmonid population and ESU/DPS-level status, and brief summaries of the Willamette-Lower Columbia Technical Recovery Team's products. It also contains summaries of the management unit plans' recovery goals, presents NMFS' proposed delisting criteria for the ESUs and DPS, and describes the methods used in the management unit plans to develop the principal plan components.

For each species addressed, the Proposed Plan also summarizes the results of the management unit plan analyses and presents specific information on the following: Population status; limiting factors and threats that have contributed to population declines; estimates of the impacts of six main categories of threats on population productivity; and a scenario of reductions in each of those threats that, if achieved, would likely improve the persistence probability of each population to a level consistent with recovery goals for the ESU or DPS.

In addition, the Proposed Plan describes recovery strategies and actions for each ESU/DPS, critical uncertainties, and research, monitoring, and evaluation needs. It explains how management unit planners developed site-specific management actions and summarizes the time and costs required to implement those actions. It also describes how implementation, prioritization of actions, and adaptive management will proceed at both the ESU/DPS and management-unit scales. In addition to summary information presented in the Proposed Plan, readers are referred to specific sections of the management unit plans (Appendices A through C) and recovery plan modules (Appendices D and E) for more information on all these topics.

How NMFS and Others Expect To Use the Plan

With approval of the final Plan, we will commit to implement the actions in the Plan for which we have authority and funding; encourage other federal and state agencies and tribal governments to implement plan actions for which they have responsibility, authority, and funding; and work cooperatively with the public and local stakeholders on implementation of other actions. We expect the plan to guide us and other federal agencies in evaluating federal actions under ESA section 7, as well as in implementing other provisions of the ESA and other statutes. For example, the plan will provide greater biological context for evaluating the effects that a proposed action may have on a species by providing delisting criteria, information on priority areas for addressing specific limiting factors, and information on how populations within the ESUs and DPS can tolerate varying levels of risk.

When we are considering a species for delisting, the agency will examine whether the section 4(a)(1) listing factors have been addressed. To assist in this examination, we will use the delisting criteria described in Section 3.2 of the Proposed Plan, which include both biological criteria and criteria addressing each of the ESA section 4(a)(1) listing factors, as well as any other relevant data and policy considerations.

At the management unit level, the LCFRB, ODFW, and the Washington Gorge Implementation Team, working with us, will develop implementation schedules that provide greater specificity for recovery actions to be implemented over three- to five-year periods. These entities also will coordinate the implementation of the recovery actions identified in the management unit plans and subsequent implementation schedules, and will track and report on implementation progress. Management unit planners and NMFS staff will work together to coordinate the implementation of recovery actions among federal, state, local, and tribal entities and stakeholders.

Conclusion

Section 4(f)(1)(B) of the ESA requires that recovery plans incorporate, to the extent practicable, (1) objective, measurable criteria which, when met, would result in a determination that the species is no longer threatened or endangered; (2) site-specific management actions necessary to achieve the plan's goals; and (3) estimates of the time required and costs to implement recovery actions. We conclude that the Proposed Plan meets the requirements of ESA section 4(f) and is proposing to adopt it as the ESA Recovery Plan for Lower Columbia River Chinook Salmon, Lower Columbia River Coho Salmon, Columbia River Chum Salmon, and Lower Columbia River Steelhead.

Public Comments Solicited

We are soliciting written comments on the Proposed Plan. All substantive comments received by the date specified above will be considered and incorporated, as appropriate, prior to our decision whether to approve the plan. We will issue a news release announcing the adoption and availability of a final plan. We will post on the Northwest Region Web site (www.nwr.noaa.gov) a summary of, and responses to, the comments received, along with electronic copies of the final plan and its appendices.

Literature Cited

Lower Columbia Fish Recovery Board (LCFRB). 2010. Washington Lower Columbia Salmon Recovery and Fish & Wildlife Subbasin Plan. Lower Columbia Fish Recovery Board, Washington. May 28, 2010.

McElhany, P., M.H. Ruckelshaus, M.J. Ford, T.C. Wainwright, and E.P. Bjorkstedt. 2000. Viable salmon populations and the recovery of evolutionarily significant units. U.S. Dept. of Commerce, NOAA Tech. Memo., NMFS NWFSC 42, 156 p.

National Marine Fisheries Service (NMFS). 2009. Middle Columbia River Steelhead Distinct Population Segment ESA Recovery Plan. Northwest Region. November 30, 2009.

National Marine Fisheries Service (NMFS). 2011a. Draft ESA Recovery Plan for the White Salmon River Subbasin. Northwest Region. December 2011.

National Marine Fisheries Service (NMFS). 2011b. Columbia River Estuary ESA Recovery Plan Module for Salmon and Steelhead. Northwest Region. Prepared for NMFS by the Lower Columbia River Estuary Partnership (contractor) and PC Trask & Associates, Inc. (subcontractor). January 2011.

Oregon Department of Fish and Wildlife. 2010. Lower Columbia River Conservation and Recovery Plan for Oregon Populations of Salmon and Steelhead. August 6, 2010.

Authority: 16 U.S.C. 1531 et seq.

Dated: May 10, 2012.
Dwayne Meadows,
Acting Chief, Endangered Species Division, Office of Protected Resources, National Marine Fisheries Service.

[FR Doc. 2012-11872 Filed 5-15-12; 8:45 am]

BILLING CODE 3510-22-P